DEPARTMENT OF DEFENSE

Department of the Army, Corps of Engineers

ENVIRONMENTAL PROTECTION AGENCY

DEPARTMENT OF THE INTERIOR

Office of Surface Mining

Fish and Wildlife Service

Draft Programmatic Environmental Impact Statement

AGENCIES: U.S. Army Corps of Engineers, Department of the Army, DOD; Environmental Protection Agency; Office of Surface Mining and U.S. Fish and Wildlife Service, Interior; and West Virginia Department of Environmental Protection.

ACTION: Announcement of Draft Programmatic Environmental Impact Statement (DEIS) availability and notice of public hearings.

SUMMARY: The above agencies announce the availability of the DEIS on Mountaintop Mining/Valley Fills in Appalachia for public comment. The DEIS considers new or revised program guidance, policies, or regulations to minimize, to the maximum extent practicable, the adverse environmental effects of mountaintop mining/valley fill operations within the Appalachian study area in West Virginia, Kentucky, Virginia, and Tennessee.

The DEIS is being mailed to known interested parties and can be viewed on the Internet at http://www.epa.gov/region3/mtntop/index.htm. The DEIS can also be viewed at local offices of the above agencies and at local libraries. Copies of the DEIS can be requested by calling the Environmental Protection Agency, Region 3, toll free at 1-800-228-8711.

The public is invited to provide written comments on the DEIS during the extended 90-day comment period and oral comments during either of the 2 public hearings. The first hearing will be held at the Forum at the Hal Rogers Center, 101 Bulldog Lane, Hazard, KY 41701. The second hearing will be held at the Charleston Civic Center-Little Theater, 200 Civic Center Drive, Charleston, WV 25301. Each hearing will have two sessions: the first will be held from 2 p.m. to 5 p.m. and the second will be held the same day from 7 p.m. to 11 p.m.

DATES: The public hearing in Hazard, KY will be held on July 22, 2003, and the public hearing in Charleston, WV will be held on July 24, 2003. Written comments on the DEIS must be received by August 29, 2003.

ADDRESSES: Send written comments on the DEIS to John Forren, U.S. Environmental Protection Agency (3EA30), 1650 Arch Street, Philadelphia, PA 19103.

FOR FURTHER INFORMATION CONTACT: For further information on the DEIS, contact Katherine Trott, U.S. Army Corps of Engineers, at (202) 761-4617; John Forren, U.S. Environmental Protection Agency, at (215) 814-2705; Michael Robinson, Office of Surface Mining, at (412) 937-2882; Cindy Tibbott, U.S. Fish and Wildlife Service, at (814) 234-4090; or Russell Hunter, West Virginia Department of Environmental Protection, at (304) 759-0510.

John A. McElree,
LTC, EN, Acting Executive Director, Directorate of Civil Works.
Gregory Peck,
Deputy Director, Wetlands Division, Office of Water, Headquarters, Environmental Protection Agency.
Sarah E. Donnelly,
Acting Assistant Director, Program Support, Office of Surface Mining.
Marshall P. Jones,
Deputy Director, Fish and Wildlife Service.

[FR Doc. 03-13452 Filed 5-29-03; 8:45 am]

BILLING CODE 3710-92-P